DEPARTMENT OF THE INTERIOR

National Park Service

Backcountry Management Plan, Environmental Impact Statement, Grand Canyon National Park, Arizona

AGENCY: National Park Service, Department of the Interior.

ACTION: Notice of Intent to prepare an Environmental Impact Statement for the Backcountry Management Plan, Grand Canyon National Park.

SUMMARY: Pursuant to the National Environmental Policy Act of 1969 (42 U.S.C. 4332(2)(C)), the National Park Service (NPS) is preparing an Environmental Impact Statement for the Backcountry Management Plan for Grand Canyon National Park. This plan will help guide park decisions on protecting natural and cultural resources while providing for a variety of visitor opportunities to experience the park's backcountry. Over 94% of the park has been proposed as wilderness, and an updated plan is needed to comply with NPS wilderness policy and other policies. A range of reasonable alternatives for managing the park's backcountry will be developed, with public input, through this planning process and will include, at a minimum, a no-action and an agency preferred alternative.

Major issues the plan will address include visitor access and use of the park's backcountry, levels of commercial services, levels of administrative and scientific research activities, management of natural and cultural resources, and the protection of wilderness character. The National Park Service will identify additional issues to be addressed through public scoping.

A scoping newsletter is being prepared that details the issues identified to date. Copies of that information will be made available on NPS Planning, Environment, and Public Comment (PEPC) at http://parkplanning.nps.gov/grca.

DATES: The Park Service will accept comments from the public through June 27, 2011. Public meetings will occur in Flagstaff and Grand Canyon, Arizona and other locations to be determined. Specific dates, times, and locations will be announced in the local media and on the internet at http://parkplanning.nps.gov/grca.

ADDRESSES: Information will be available for public review and comment online at http://parkplanning.nps.gov/grca, in the Office of the Superintendent, Jane Lyder, 1 Village Loop, Grand Canyon, Arizona 86023, 928-638-7945, or in the Office of Planning and Compliance, 1 Village Loop, Grand Canyon, Arizona 86023.

FOR FURTHER INFORMATION CONTACT: Jane Lyder, Acting Superintendent, P.O. Box 129, Grand Canyon, Arizona, 86023, 928-638-7945, Jane_Lyder@nps.gov or Rachel Bennett, Environmental Protection Specialist, P.O. Box 129, Grand Canyon, Arizona 86023, 928-638-7326, Rachel_Bennett@nps.gov.

SUPPLEMENTARY INFORMATION: If you wish to comment on the scoping newsletter or on any other issues associated with the plan, you may submit your comments by any one of several methods. You may comment via the Internet at http://parkplanning.nps.gov/grca. If you do not have access to a computer, you may mail comments to Jane Lyder, Acting Superintendent, P.O. Box 129, Grand Canyon, AZ 86023. Finally, you may hand-deliver comments to Grand Canyon National Park Headquarters, 1 Village Loop, Grand Canyon, AZ.

Before including your address, phone number, e-mail address, or other personal identifying information in your comment, you should be aware that your entire comment—including your personal identifying information—may be made publicly available at any time. While you can ask us in your comment to withhold your personal identifying information from public review, we cannot guarantee that we will be able to do so.

Dated: March 3, 2011.
John Wessels,
Director, Intermountain Region, National Park Service.

[FR Doc. 2011-10118 Filed 4-26-11; 8:45 am]

BILLING CODE 4312-ED-P